DEPARTMENT OF AGRICULTURE

Forest Service

Tongass National Forest Plan Amendment Environmental Impact Statement

AGENCY: Forest Service, USDA.

ACTION: Notice of intent to prepare an environmental impact statement.

SUMMARY: The Department of Agriculture, Forest Service, will prepare an environmental impact statement (EIS) that evaluates a potential significant amendment to the 1997 Tongass National Forest Plan. The Record of Decision will consider and identify changes, if any, to the current 1997 Forest Plan.

DATES: A specific proposed action is expected to be identified and posted on the Web site, http://tongass-fpadjust.net, in May 2006. The Draft EIS is expected to be mailed in November 2006, which will begin a 90-day public comment period. Public meetings and subsistence hearings will be scheduled during the 90-day comment period. The Record of Decision is expected to be signed in July 2007.

FOR FURTHER INFORMATION CONTACT: Additional information is available on the Tongass Forest Plan Adjustment Internet site at http://www.tongass-fpadjust.net. General and specific comments on the amendment can be submitted online at this Internet site. Questions about the project can be also directed to Lee Kramer, Forest Plan Project Manager, (Telephone 907-586-8811, ext. 225 or e-mail lkramer@fs.fed.us). Written inquiries can be directed to: Forest Supervisor, Tongass National Forest, Attn: Forest Plan Amendment, 648 Mission Street, Ketchikan, AK 99901.

SUPPLEMENTARY INFORMATION: The National Forest Management Act of 1976 requires the Forest Service to develop land and resource management plans for each unit of the National Forest System. These plans are often referred to as forest plans. The Tongass National Forest adopted its first forest plan in 1979. The Tongass National Forest issued a Record of Decision (ROD), which revised its forest plan in 1997. A new Forest Plan Record of Decision was issued in 1999, which was set aside in 2001 as a result of litigation. Other litigation, occurring at the same time, indicated the Forest Plan EIS needed to be supplemented to evaluate roadless areas on the Tongass for wildnerness recommendations. Therefore, a Forest Plan Supplemental EIS was completed in 2003.

The Tongass forest plan is being amended to respond to the court decision in National Resources Defense Council v. U.S. Forest Service, 421 F.3d 797 (9th Circ. 2005). In that decision, the Ninth Circuit held that the environmental impact statement and record of decision for the Tongass forest plan adopted in 1997 had errors relating to the use of projected market demand for timber, the range of alternatives considered, and the cumulative effects of activities on non-National Forest System lands.

In addition, ongoing implementation, maintenance, and monitoring of the 1997 Forest Plan has generated a list of potential changes. Most of these changes were identified during the 5 Year Review of the Forest Plan conducted in 2004 and documented on the 5 Year Review Web site (http://www.tongass-5yearreview.net/). For additional related information see the Forest Plan Maintenance Program Web sites (http://www.tongass-fpmaintprog.net/). Examples of these potential Forest Plan changes include: new director for invasive species management, consideration of new direction on Off Highway Vehicle (OHV) use, and heritage sacred sites standards and guidelines. Information on these and other Forest Plan-related work items can be found on the Forest Plan Adjustment Web site (http://tongass-fpadjust.net).

This amendment will draw upon a wealth of existing information. The environmental impact statements and planning records for the 1997 forest plan and the 2003 wilderness evaluation contain a great deal of analysis of land allocations, effects on communities and impacts to fish and wildlife. It will also be informed by the ideas and information from five substantial public comment efforts that have occurred since the 1997 forest plan was adopted: (1) The 69 day comment period for the proposed national roadless area conservation rule that began May 10, 2000; (2) the 60 day comment period for the advance notice of proposed rulemaking for the roadless area conservation rule that began July 10, 2001; (3) the 90-day comment period for the Tongass 2003 wilderness area Supplemental EIS that began May 17, 2002; (4) the 30 day comment period for the interim roadless area conservation rule for the Tongass National Forest that began July 15, 2003; and (5) the 122 day comment period on the 2004 roadless area conservation rule that began July 12, 2004.

Further analysis, including new estimates of timber market demand by the Forest Service Pacific Northwest Research Station, follow-up studies commissioned after the 1997 forest planning process, and experience gained while implementing the 1997 Tongass forest plan will also aid in responding to the inadequacies identified by the Court and the potential changes that surfaced during the Forest Plan 5 Year Review. Appropriate alternatives for amending the Forest Plan will be developed and then evaluated in the EIS. The major issues that are likely to drive alternative development include timber demand and supply, wildlife and fish conservation, and maintaining inventoried roadless areas.

Since 1997 timber harvest and road construction have been well below the level permitted by the Forest Plan. Because the 5 Year Review did not identify any individual concerns requiring revision, the proposed action would amend the Forest Plan. The amendment will respond to the 9th Circuit Court and some of the concerns identified in the 5 Year Review. In addition, the proposed action will integrate past decisions (the 1997, 1999, and 2003 RODs, and all plan amendments completed to date) to resolve confusion regarding current management direction for the Tongass.

The Forest Service recently issued the 2005 Forest Planning Rule. Because the Court indicated that an EIS needed to be prepared, and because the 2005 Rule does not require EISs for Forest Plans, the planning regulations in effect before November 9, 2000 will be followed for this amendment.

Opportunities for the public to participate in the development of the EIS will be provided throughout the process. The Forest Service is using a combination of methods to engage and involve the public, but is emphasizing a Web-based approach. A Web site has already been established to provide information to the public and to accept comments (http://www.tongass-fpadjust.net/). The public is invited to visit this site to learn more about the amendment process and to provide comment on the process or on specific work items. Other potential public involvement methods include public mailings, public meetings, and use of the news media. Information from previous public input efforts related to the 1997 Forest Plan and the 2003 Supplemental EIS, will be incorporated.

The comment period on the Draft EIS will be 90 days from the date the Environmental Protection Agency (EPA) publishes the notice of availability of the EIS in the Federal Register. A series of public meetings and subsistence hearings will be held during the 90-day public comment period. The Draft EIS is projected to be filed with the EPA in November 2006.

The Forest Service believes, at this early stage, it is important to give reviewers notice of several court rulings related to public participation in the environmental review process. First, reviewers of draft environmental impact statements must structure their participation in the environmental preview of the proposal so that it is meaningful and alerts the agency to the reviewer's position and contentions. Vermont Yankee Nuclear Power Corp. v. NRDC, 435 U.S. 519, 553, (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in the proposed action participate by the close of the 90-day comment period so that substantive comments and objections are made available to the Forest Service at a time when it can meaningfully consider them and respond to them in the final environmental impact statement.

To assist the Forest Service in identifying and considering issues and concerns of the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received in response to this solicitation, including names and addresses of those who comment, will be considered part of the public record on this proposed action and will be available for public inspection. comments submitted anonymously will be accepted and considered; however, those who submit anonymous comments will not have standing to appeal the subsequent decision under 36 CFR Parts 215 or 217. Additionally, pursuant to 7 CFR 1.27(d), any person may request the agency to withhold a submission from the public record by showing how the Freedom of Information Act (FOIA) permits such confidentiality. Requesters should be aware that, under FOIA, confidentiality may be granted in only very limited circumstances, such as to protect trade secrets. The Forest Service will inform the requester of the agency's decision regarding the request for confidentiality, and where the request is denied, the agency will return the submission and notify the requester that the comments may be resubmitted with or without name and address within 7 days.

No outside permits or licenses are required to implement the proposed action. Responsible Official: The Tongass Forest Supervisor, 648 Mission Street, Ketchikan, AK, 99901, is the responsible official. The responsible official will consider the comments, response, disclosure of environmental consequences, and applicable laws, regulations, and policies in making the decision and stating the rationale in the Record of Decision.

Dated: March 20, 2006.
Forrest Cole,
Forest Supervisor.

[FR Doc. 06-2952 Filed 3-27-06; 8:45 am]

BILLING CODE 3410-11-M